DEPARTMENT OF COMMERCE

Bureau of the Census

Submission for OMB Review; Comment Request

DOC has submitted to the Office of Management and Budget (OMB) for clearance the following proposal for collection of information under the provisions of the Paperwork Reduction Act (44 U.S.C. chapter 35).

Agency: U.S. Census Bureau.

Title: Census 2000 Test Program Supplement.

Form Number(s): These computer based survey instruments will have no form number.

Agency Approval Number: 0607-0862.

Type of Request: Revision of a currently approved collection.

Burden: 1,680 hours (added to the current total of 8,013 hours).

Number of Respondents: 6,660 (added to the current total of 200,300).

Avg Hours Per Response: Residence Rules Survey-20 minutes; Internet Usage Survey-5 minutes.

Needs and Uses: The Census Bureau will test several methodologies, techniques, and strategies during Census 2000. We received Office of Management and Budget (OMB) approval to conduct four separate tests, which are collectively referred to as The Census 2000 Test Program. We now request approval for supplemental collections associated with two of the tests, which are the Alternative Questionnaire Experiment in 2000 (AQE2000) Residence Rules Survey, and the Response Mode and Incentive Experiment (RMIE) Internet Usage Survey. Results of these tests will help in the planning of the 2010 Census.

One component of the AQE2000 tests the effectiveness of alternative presentation formats of residence rules. A sub sample of the AQE2000 sample households that returned the experimental (alternate version of the presentation format) and control (current versions of the presentation format) short forms that also provided telephone contact information will be reinterviewed. The Residence Rules Survey will be conducted by telephone with the person in the household who signed the census form, or a knowledgeable other person. Topics addressed in the reinterview include obtaining an independent listing of all household members on April 1st (including potentially omitted persons), and determining whether these members are classified as residents according to the Census Bureau's residence rules. Other issues to be explored include respondents' ability to comprehend the residence rules, and possible sources of misconceptions stemming from experimental or control versions of the presentation format.

In the RMIE, sample households will receive an invitation in the census short-form mail package inviting them to respond by one of three experimental response modes rather than by mail—CATI, interactive voice response (IVR), and an Internet Questionnaire (IQ). An incentive of a calling card worth 30 minutes of free long distance calls will also be tested. The RMIE Internet Usage Survey (IUS) will determine why households that were given the option to respond by Internet instead responded by mail. The IUS also will enable analysis of households that received the incentive and those that did not. The IUS will consist of follow-up telephone interviews with a sub sample of RMIE households invited to respond by the Internet but who actually respond by mail. The purpose of these interviews is to assess the barriers to responding to the census by the Internet. Topics to be covered by the interview include whether or not the respondent has access to the Internet, why they did not use the Internet to respond (if they have access) and if the respondent was aware of the incentive offered (of those in the incentive group).

Affected Public: Individuals or households.

Frequency: One time.

Respondent's Obligation: Voluntary.

Legal Authority: Title 13 USC, Sections 141 and 193.

OMB Desk Officer: Susan Schechter, (202) 395-5103.

Copies of the above information collection proposal can be obtained by calling or writing Linda Engelmeier, DOC Forms Clearance Officer, (202) 482-3272, Department of Commerce, room 5033, 14th and Constitution Avenue, NW, Washington, DC 20230 (or via the Internet at LEngelme@doc.gov).

Written comments and recommendations for the proposed information collection should be sent within 30 days of publication of this notice to Susan Schechter, OMB Desk Officer, room 10201, New Executive Office Building, Washington, DC 20503.

Dated: April 14, 2000.
Linda Engelmeier,
Departmental Forms Clearance Officer, Office of the Chief Information Officer.

[FR Doc. 00-9826 Filed 4-18-00; 8:45 am]

BILLING CODE 3510-07-P